COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds services to the Procurement List that will be provided by nonprofit agencies employing persons who are blind or have other severe disabilities, and deletes products from the Procurement List previously furnished by such agencies.

DATES: Effective Date: 2/7/2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 1/16/2015 (80 FR 2400-2401) and 10/2/2015 (80 FR 59740-59741, the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type: Custodial Service

Service is Mandatory For:

DoDEA, Domestic Dependent Elementary and Secondary Schools: Andersen Elementary and Middle Schools, Andersen AFB, 1600 Ponape Avenue, Yigo, GU

District Superintendent's Office, Naval Hospital Base, 101 Johnson Road, Agana Heights, GU

Guam High School, Naval Hospital Base, 401 Stitt Street, Agana Heights, GU

Commander William C. McCool Elementary/Middle School, US Naval Base Guam, 311 Amaryllis Avenue, Sumay, GU

Mandatory Source(s) Of Supply: iCAN Resources, Inc., Dededo, GU

Contracting Activity: Dept of Defense Education Activity (DODEA), DODDS Pacific Director's Office APO, AP

Service Type: Furniture Design and Configuration Service

Service is Mandatory For: Rhode Island National Guard, 330 Camp Street, Providence, RI

Mandatory Source(s) Of Supply: Industries for the Blind, Inc., West Allis, WI

Contracting Activity: Dept of the Army, W7NY USPFO Activity RI ARNG East, Greenwich, RI

Deletions

On 12/4/2015 (80 FR 75857-75858), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s): 5340-01-218-8346—Bracket, Angle, Aviation

Mandatory Source(s) of Supply: Herkimer County Chapter, NYSARC, Herkimer, NY

Contracting Activity: Defense Logistics Agency Troop Support

NSN(s)—Product Name(s): 4935-00-824-5469—Strap Set, Webbing

Mandatory Source(s) of Supply: Huntsville Rehabilitation Foundation, Huntsville, AL

Contracting Activity: Defense Logistics Agency Troop Support

NSN(s)—Product Name(s): 6545-00-139-3671—Kit, Survival, 6545-01-521-8530—Kit, Survival

Mandatory Source(s) of Supply: Opportunity Resources, Inc., Missoula, MT

Contracting Activity: Defense Logistics Agency Troop Support

Barry S. Lineback,
Director, Business Operations.

[FR Doc. 2016-00152 Filed 1-7-16; 8:45 am]

BILLING CODE 6353-01-P